DEPARTMENT OF COMMERCE

National Oceanic and Atmospheric Administration

Submission for OMB Review; Comment Request; Correction

AGENCY: National Oceanic and Atmospheric Administration (NOAA).

SUMMARY: This corrects the title of the information collection (OMB Control No. 0648-471) submitted to the Office of Management and Budget for review.

The notice was published on January 17, 2006 (Vol. 71, No. 10, page 2514).

Correction

The title of the information collection was listed as “Deep Seabed Mining Exploration Licenses.” The correct title is “Highly Migratory Species Scientific Research Permits, Exempted Fishing Permits, and Letters of Authorization”.

Dated: January 31, 2006.
Gwellnar Banks,
Management Analyst, Office of the Chief Information Officer.

[FR Doc. E6-1534 Filed 2-3-06; 8:45 am]

BILLING CODE 3510-22-P